ENVIRONMENTAL PROTECTION AGENCY

[EPA-R01-OW-2008-0875; FRL-8913-8]

Maine Marine Sanitation Device Standard—Notice of Determination

AGENCY: Environmental Protection Agency (EPA).

ACTION: Notice of determination.

SUMMARY: The Regional Administrator of the Environmental Protection Agency—New England Region, has determined that adequate facilities for the safe and sanitary removal and treatment of sewage from all vessels are reasonably available for the waters of Kennebunk/Kennebunkport/Wells.

ADDRESSES: Docket: All documents in the docket are listed in the http://www.regulations.gov index. Although listed in the index, some information is not publicly available, e.g., CBI or other information whose disclosure is restricted by statute. Certain other material, such as copyrighted material, will be publicly available only in hard copy. Publicly available docket materials are available electronically in http://www.regulations.gov.

FOR FURTHER INFORMATION CONTACT: Ann Rodney, U.S. Environmental Protection Agency—New England Region, One Congress Street, Suite 1100, COP, Boston, MA 02114-2023. Telephone: (617) 918-0538. Fax number: (617) 918-1505. E-mail address: rodney.ann@epa.gov.

SUPPLEMENTARY INFORMATION: On December 12, 2008, EPA published a notice that the state of Maine had petitioned the Regional Administrator, Environmental Protection Agency, to determine that adequate facilities for the safe and sanitary removal and treatment of sewage from all vessels are reasonably available for the waters of Kennebunk/Kennebunkport/Wells. Three comments were received on this petition. The response to comments can be obtained utilizing the above contact information.

The petition was filed pursuant to Section 312(f)(3) of Public Law 92-500, as amended by Public Laws 95-217 and 100-4, for the purpose of declaring these waters a No Discharge Area (NDA).

Section 312(f)(3) states: After the effective date of the initial standards and regulations promulgated under this section, if any State determines that the protection and enhancement of the quality of some or all of the waters within such State require greater environmental protection, such State may completely prohibit the discharge from all vessels of any sewage, whether treated or not, into such waters, except that no such prohibition shall apply until the Administrator determines that adequate facilities for the safe and sanitary removal and treatment of sewage from all vessels are reasonably available for such water to which such prohibition would apply.

This Notice of Determination is for the waters of Kennebunk/Kennebunkport/Wells. The NDA boundaries are as follows:

Waterbody/general area | From longitude | From latitude | To longitude | To latitude
From “Moody Point” in Wells north following the shore to a point at the westerly head of navigation of the Webhannet River | 70°34′14.98″ W | 43°17′12.21″ N | 70°34′14.68″ W | 43°18′23.76″ N
Northeast following the shore to the head of navigation of the middle fork of the Webhannet River | 70°34′14.68″ W | 43°18′23.76″ N | 70°33′48.9″ W | 43°19′19.9″ N
Northeast following the shore to the head of navigation of the eastern fork of the Webhannet River | 70°33′48.9″ W | 43°19′19.9″ N | 70°33′30.69″ W | 43°19′28.3″ N
East following the shore to the Route 9 bridge on the Mousam River | 70°33′30.69″ W | 43°19′28.3″ N | 70°31′5.19″ W | 43°21′5.24″ N
East following the shore to the Route 9 bridge on the Kennebunk River | 70°31′5.19″ W | 43°21′5.24″ N | 70°28′41.56″ W | 43°21′39.93″ N
East following the shore to “Cape Arundel” | 70°28′41.56″ W | 43°21′39.93″ N | 70°27′58.36″ W | 43°20′25.42″ N
Southwest in a straight line across the water to Moody Point | 70°27′58.36″ W | 43°20′25.42″ N | 70°34′14.98″ W | 43°17′12.21″ N

The proposed NDA includes the municipal waters of Kennebunk/Kennebunkport/Wells.

The information submitted to EPA by the state of Maine certifies that there are five pumpout facilities located within this area. A list of the facilities, with locations, phone numbers, and hours of operation is appended at the end of this determination.

Based on the examination of the petition and its supporting documentation, and meetings with the state and local officials, EPA has determined that adequate facilities for the safe and sanitary removal and treatment of sewage from all vessels are reasonably available for the area covered under this determination.

This determination is made pursuant to Section 312(f)(3) of Public Law 92-500, as amended by Public laws 95-217 and 100-4.

Pumpout Facilities Within Proposed No Discharge Area
Kennebunk/Kennebunk/Wells: Name | Kennebunk/Kennebunk/Wells: Location | Kennebunk/Kennebunk/Wells: Contact info. | Kennebunk/Kennebunk/Wells: Hours | Kennebunk/Kennebunk/Wells: Mean low water depth
Harbormaster | Wells | 207-646-3226, VHF 16 | 7 a.m.-3 p.m., 7 days | 10 ft.
Yachtsman | Kennebunk River | 207-967-2511, VHF 9 | 8 a.m.-5 p.m., 7 days | 10 ft.
Kennebunkport Marina | Kennebunk River | 207-967-3411, VHF 9 | 8 a.m.-5 p.m., 7 days | 10 ft.
Chicks Marina | Kennebunk River | 207-967-2782, VHF 9 | 8 a.m.-5 p.m., 7 days | 10 ft.
River Commission pumpout float | Kennebunk River | 207-967-4243 | 24/7 self service | 8 ft.

Dated: May 27, 2009.
Ira W. Leighton,
Acting Regional Administrator, New England Region.

[FR Doc. E9-13598 Filed 6-9-09; 8:45 am]

BILLING CODE 6560-50-P